ENVIRONMENTAL PROTECTION AGENCY

40 CFR Parts 52, 60 and 61

[FRL 9660-3]

Change of Address for Region 4, State and Local Agencies; Technical Correction

AGENCY: Environmental Protection Agency (EPA).

ACTION: Final rule; technical amendment.

SUMMARY: EPA is amending its regulations to reflect a change in address for EPA's Region 4 office as well as the state agencies for Georgia, Mississippi, North Carolina and local agencies for Forsyth County, Mecklenburg County Land Use & Environmental Services Agency and Western North Carolina Regional Air Quality Agency. The jurisdiction of EPA Region 4 includes the States of Alabama, Florida, Georgia, Kentucky, Mississippi, North Carolina, South Carolina and Tennessee. Certain EPA air pollution control regulations requiring submittal of notifications, reports and other documents to the EPA Regional office must also be submitted to the appropriate authorized state or local agency. This technical amendment updates and corrects the addresses for submitting such information to the EPA's Region 4 office as well as the state and local agency offices.

DATES: This final rule is effective April 19, 2012.

FOR FURTHER INFORMATION CONTACT: Lisa McKinley, Regulatory Development Section, Air Planning Branch, Air, Pesticides and Toxics Management Division, Region 4, U.S. Environmental Protection Agency, 61 Forsyth Street SW., Atlanta, Georgia 30303-8960-8960. The telephone number is (404) 562-9403. Ms. McKinley can also be reached via electronic mail at mckinley.lisa@epa.gov.

SUPPLEMENTARY INFORMATION:

I. Background

EPA is amending its regulations in 40 CFR parts 52, 60 and 61 to reflect a change in the address for EPA's Region 4 office as well as the state agencies for Georgia, Mississippi, North Carolina and local agencies for Forsyth County, Mecklenburg County Land Use & Environmental Services Agency, and Western North Carolina Regional Air Quality Agency. This technical amendment merely updates and corrects the address for EPA's Region 4 office as well as the state and local agencies. This action is editorial in nature and is intended to provide accuracy and clarity to the Agency's regulations. Consequently, EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Under section 553 of the APA, an agency may find good cause where procedures are “impractical, unnecessary, or contrary to the public interest. “Public comment is “unnecessary” and “contrary to the public interest” since the address for EPA's Region 4 office as well as the state and local agencies has changed and immediate notice in the CFR benefits the public by updating citations.

II. Statutory and Executive Order Reviews

This final rule implements technical amendments to 40 CFR parts 52, 60 and 61 to reflect a change in the address for EPA's Region 4 office as well as the state and local agencies. It does not otherwise impose or amend any requirements. Consequently, under Executive Order 12866 (58 FR 51735, October 4, 1993), this action is not a “significant regulatory action” and therefore is not subject to review by the Office of Management and Budget. The rule would not impose an information collection burden under the provisions of the Paperwork Reduction Act of 1995 (44 U.S.C. 3501 et seq.). Because this action is merely editorial in nature, the Administrator certifies that it would not have a significant economic impact on a substantial number of small entities under the Regulatory Flexibility Act (5 U.S.C. 601 et seq.). The rule does not contain any unfunded mandate or significantly or uniquely affect small governments, as described in the Unfunded Mandates Reform Act of 1995 (Pub. L. 104-4). This action does not have Federalism implications because it would not have substantial direct effects on the states, on the relationship between the national government and the states, or on the distribution of power and responsibilities among the various levels of government, as specified in Executive Order 13132 (64 FR 43255, August 10, 1999). Additionally, it does not have tribal implications because it would not have a substantial direct effect on one or more Indian tribes, on the relationship between the federal government and Indian tribes, or on the distribution of power and responsibilities between the federal government and Indian tribes, as specified by Executive Order 13175 (65 FR 67249, November 9, 2000). This rule also is not an economically significant regulatory action based on health or safety risks subject to Executive Order 13045 “Protection of Children from Environmental Health Risks and Safety Risks” (62 FR 19885, April 23, 1997), nor is it subject to Executive Order 13211, “Actions Concerning Regulations That Significantly Affect Energy Supply, Distribution, or Use” (66 FR 28355, May 22, 2001). It does not involve any technical standards that require the Agency's consideration of voluntary consensus standards pursuant to section 12(d) of the National Technology Transfer and Advancement Act of 1995, Public Law 104-113, section 12(d) (15 U.S.C. 272 note). Finally, it does not provide EPA with the discretionary authority to address, as appropriate, disproportionate human health or environmental effects, using practicable and legally permissible methods under Executive Order 12898 (59 FR 7629, February 16, 1994).

III. Congressional Review Act

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 of the CRA allows the issuing agency to make a rule effective sooner than otherwise provided by the CRA, if the agency makes a good cause finding that notice and public procedure is impracticable, unnecessary, or contrary to the public interest. This determination must be supported by a brief statement (5 U.S.C. 808(2)). As stated earlier, EPA has made such a good cause finding, including the reasons therefore, and established an effective date of April 19, 2012. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 60

Environmental protection, Administrative practice and procedure, Air pollution control, Aluminum, Ammonium sulfate plants, Batteries, Beverages, Carbon monoxide, Cement industry, Chemicals, Coal, Copper, Dry cleaners, Electric power plants, Fertilizers, Fluoride, Gasoline, Glass and glass products, Grains, Graphic arts industry, Heaters, Household appliances, Insulation, Intergovernmental relations, Iron, Labeling, Lead, Lime, Metallic and nonmetallic mineral processing plants, Metals, Motor vehicles, Natural gas, Nitric acid plants, Nitrogen dioxide, Paper and paper products industry, Particulate matter, Paving and roofing materials, Petroleum, Phosphate, Plastics materials and synthetics, Polymers, Reporting and recordkeeping requirements, Sewage disposal, Steel, Sulfur oxides, Sulfuric acid plants, Tires, Urethane, Vinyl, Volatile organic compounds, Waste treatment and disposal, Zinc.

40 CFR Part 61

Environmental protection, Air pollution control, Arsenic, Asbestos, Benzene, Beryllium, Hazardous substances, Mercury, Radionuclides, Radon, Reporting and recordkeeping requirements, Uranium, Vinyl chloride.

Dated: March 26, 2012.
A. Stanley Meiburg,
Acting Regional Administrator, Region 4.

40 CFR parts 52, 60 and 61 are amended as follows:

PART 52—APPROVAL AND PROMULGATION OF IMPLEMENTATION PLANS

1. The authority citation for part 52 continues to read as follows:

Authority: 42 U.S.C. 7401.

Subpart L—Georgia

2. Section 52.581 is revised to read as follows:

§ 52.581 Significant deterioration of air quality.

(a) All applications and other information required pursuant to § 52.21 of this part from sources located in the State of Georgia shall be submitted to the State agency, Georgia Department of Natural Resources, Environmental Protection Division, Air Protection Branch, 4244 International Parkway, Suite 120, Atlanta, Georgia 30354 rather than to EPA's Region 4 office.

(b) [Reserved]

Subpart Z—Mississippi

3. Section 52.1280 is revised to read as follows:

§ 52.1280 Significant deterioration of air quality.

(a) All applications and other information required pursuant to § 52.21 of this part from sources located or to be located in the State of Mississippi shall be submitted to the State agency, Hand Deliver or Courier: Mississippi Department of Environmental Quality, Office of Pollution Control, Air Division, 515 East Amite Street, Jackson, Mississippi 39201; Mailing Address: Mississippi Department of Environmental Quality, Office of Pollution Control, Air Division, P.O. Box 2261, Jackson, Mississippi 39225, rather than to EPA's Region 4 office.

(b) [Reserved]

Subpart II—North Carolina

4. Section 52.1778 is amended by revising paragraph (c) to read as follows:

§ 52.1778 Significant deterioration of air quality.

* * * * *

(c) All applications and other information required pursuant to § 52.21 of this part from sources located or to be located in the State of North Carolina shall be submitted to the State agency, North Carolina Department of Environment and Natural Resources, Division of Air Quality, 1641 Mail Service Center, Raleigh, North Carolina 27699-1641 or local agencies, Forsyth County Environmental Affairs, 201 North Chestnut Street, Winston-Salem, North Carolina 27101 or Forsyth County Air Quality Section, 537 North Spruce Street, Winston-Salem, North Carolina 27101; Mecklenburg County Land Use & Environmental Services Agency, Air Quality, 700 N. Tryon St., Suite 205, Charlotte, North Carolina 28202-2236; Western North Carolina Regional Air Quality Agency, 49 Mount Carmel Road, Asheville, North Carolina 28806, rather than to EPA's Region 4 office.

PART 60—STANDARDS OF PERFORMANCE FOR NEW STATIONARY SOURCES

5. The authority citation for part 60 continues to read as follows:

Authority: 42 U.S.C. 7401.

Subpart A—General Provisions

6. Section 60.4 is amended by:

a. Revising the Region IV listing in paragraph (a).

b. Revising paragraphs (b)(L), (b)(Z), and (b)(II).

The revisions read as follows:

§ 60.4 Address.

(a) * * *

Region 4 (Alabama, Florida, Georgia, Kentucky, Mississippi, North Carolina, South Carolina, Tennessee), Director, Air, Pesticides and Toxics Management Division, U.S. Environmental Protection Agency, 61 Forsyth St. SW., Suite 9T43, Atlanta, Georgia 30303-8960.

* * * * *

(b) * * *

(L) State of Georgia: Georgia Department of Natural Resources, Environmental Protection Division, Air Protection Branch, 4244 International Parkway, Suite 120, Atlanta, Georgia 30354.

* * * * *

(Z) State of Mississippi: Hand Deliver or Courier: Mississippi Department of Environmental Quality, Office of Pollution Control, Air Division, 515 East Amite Street, Jackson, Mississippi 39201, Mailing Address: Mississippi Department of Environmental Quality, Office of Pollution Control, Air Division, P.O. Box 2261, Jackson, Mississippi 39225.

* * * * *

(II) State of North Carolina: North Carolina Department of Environment and Natural Resources, Division of Air Quality, 1641 Mail Service Center, Raleigh, North Carolina 27699-1641 or local agencies, Forsyth County Environmental Affairs, 201 North Chestnut Street, Winston-Salem, North Carolina 27101 or Forsyth County Air Quality Section, 537 North Spruce Street, Winston-Salem, North Carolina 27101; Mecklenburg County Land Use & Environmental Services Agency, Air Quality, 700 N. Tryon St., Suite 205, Charlotte, North Carolina 28202-2236; Western North Carolina Regional Air Quality Agency, 49 Mount Carmel Road, Asheville, North Carolina 28806.

* * * * *

PART 61—NATIONAL EMISSION STANDARDS FOR HAZARDOUS AIR POLLUTANTS

7. The authority citation for part 61 continues to read as follows:

Authority: 42 U.S.C. 7401.

Subpart A—General Provisions

8. Section 61.04 is amended by:

a. Revising the Region IV listing in paragraph (a).

b. Revising paragraphs (b)(L), (b)(Z), and (b)(II).

The revisions read as follows:

§ 61.04 Address.

(a) * * *

Region 4 (Alabama, Florida, Georgia, Kentucky, Mississippi, North Carolina, South Carolina, Tennessee), Director, Air, Pesticides and Toxics Management Division, U.S. Environmental Protection Agency, 61 Forsyth St. SW., Suite 9T43, Atlanta, Georgia 30303-8960.

* * * * *

(b) * * *

(L) State of Georgia: Georgia Department of Natural Resources, Environmental Protection Division, Air Protection Branch, 4244 International Parkway, Suite 120, Atlanta, Georgia 30354.

* * * * *

(Z) State of Mississippi: Hand Deliver or Courier: Mississippi Department of Environmental Quality, Office of Pollution Control, Air Division, 515 East Amite Street, Jackson, Mississippi 39201, Mailing Address: Mississippi Department of Environmental Quality, Office of Pollution Control, Air Division, P.O. Box 2261, Jackson, Mississippi 39225.

* * * * *

(II) State of North Carolina: North Carolina Department of Environment and Natural Resources, Division of Air Quality, 1641 Mail Service Center, Raleigh, North Carolina 27699-1641 or local agencies, Forsyth County Environmental Affairs, 201 North Chestnut Street, Winston-Salem, North Carolina 27101 or Forsyth County Air Quality Section, 537 North Spruce Street, Winston-Salem, North Carolina 27101; Mecklenburg County Land Use & Environmental Services Agency, Air Quality, 700 N. Tryon St., Suite 205, Charlotte, North Carolina 28202-2236; Western North Carolina Regional Air Quality Agency, 49 Mount Carmel Road, Asheville, North Carolina 28806.

* * * * *

[FR Doc. 2012-9234 Filed 4-18-12; 8:45 am]

BILLING CODE 6560-50-P